FEDERAL COMMUNICATIONS COMMISSION

Notice of Public Information Collection(s) Being Reviewed by the Federal Communications Commission, Comments Requested

April 13, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before June 21, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, 202-418-0214, Judith-b.herman@fcc.gov.

SUPPLEMENTARY INFORMATION: OMB Control Number: 3060-0855.

Title: Telecommunications Reporting Worksheets and Related Collections.

Form Nos.: FCC Forms 499-A and 499-Q.

Type of Review: Extension of a currently approved collection.

Respondents: Business or other for-profit and not-for-profit institutions.

Number of Respondents and Responses: 5,800 respondents; 44,574 responses.

Estimated Time Per Response: 15 hours (average).

Frequency of Response: On occasion, one-time, annual and quarterly reporting requirement, recordkeeping requirement and third party disclosure requirement.

Obligation to Respond: Mandatory. Statutory authority for this information collection is contained in 47 U.S.C. sections 151, 154(i), 155, 157, 205, 214, 225, 254, and 303(r).

Total Annual Burden: 281,710 hours.

Total Annual Cost: N/A.

Privacy Act Impact Assessment: N/A.

Nature and Extent of Confidentiality: The Commission will allow respondents to certify that data contained in their submissions are privileged or confidential commercial or financial information and that disclosure of such information would likely cause substantial harm to the competitive position of the entity filing the Worksheet. If the Commission receives a request for or proposes to disclose the information, the respond would be required to make the full showing pursuant to the Commission's rules for withholding from public inspection information submitted to the Commission. See 47 CFR 0.459 of the Commission's rules.

Needs and Uses: The Commission will submit this expiring information collection after this comment period to the Office of Management and Budget (OMB) to obtain the full three year clearance from them. There no change to the reporting, recordkeeping and/or third party disclosure requirements.

The Federal Communications Commission (FCC) requires telecommunications carriers and other providers of telecommunications to contribute to the universal service fund and other funds. Contribution revenue data, as well as other information, are reported by carriers on FCC Form 499-A (annual) and 499-Q (quarterly). Accompanying these forms are instructions on how to report revenue. Although there are no changes to the collection requirements or on the forms, the total hourly burden has been adjusted. The Commission is reporting a 8,581 hourly increase in burden. This is due to updated information from the Universal Service Administrative Company (USAC), the administrator of the universal service fund, based on actual participation in the program.

Specifically, for the FCC Form 499-A, the Commission has increased the number of respondents from 5,625 to 5,800 based on the actual number of contributing entities for fiscal year 2009. For the FCC Form 499-Q, the number of respondents increased from 2,525 to 3,600 based on the actual number of service providers filing FCC Form 499-Q in 2009. Therefore, the total annual burden increased from 273,129 to 281,710 hours. And the frequency of response remained the same for both forms.

The Commission uses the information to evaluate individual contributor's contributions to the universal service mechanisms, pursuant to section 254 of the Communications Act of 1934, as amended.

Federal Communications Commission.
Marlene H. Dortch,
Secretary,
Office of the Secretary,
Office of Managing Director.

[FR Doc. 2010-9255 Filed 4-21-10; 8:45 am]

BILLING CODE 6712-01-S